ENVIRONMENTAL PROTECTION AGENCY

[EPA-HQ-RCRA-2007-0231; FRL-8480-7]

Agency Information Collection Activities; Submission to OMB for Review and Approval; Comment Request; 2007 Hazardous Waste Report, EPA ICR Number 0976.13, OMB Control Number 2050-0024

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 13, 2007.

ADDRESSES: Submit your comments, referencing Docket ID No. EPA-HQ-RCRA-2007-0231, to (1) EPA, either online using www.regulations.gov (our preferred method), or by e-mail to rcra-docket@epa.gov, or by mail to: RCRA Docket (2822T), U.S. Environmental Protection Agency, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Peggy Vyas, Environmental Protection Agency, Mail Code: 5302P, 1200 Pennsylvania Ave., NW., Washington, DC 20460; telephone number: 703-308-5477; fax number: 703-308-8433; e-mail address: vyas.peggy@epa.gov.

SUPPLEMENTARY INFORMATION: EPA has submitted the following ICR to OMB for review and approval according to the procedures prescribed in 5 CFR 1320.12. On April 17, 2007 (72 FR 19194), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-RCRA-2007-0231, which is available for online viewing at www.regulations.gov, or in person viewing at the Resource Conservation and Recovery Act (RCRA) Docket in the EPA Docket Center (EPA/DC), EPA West, Room 3334, 1301 Constitution Ave., NW., Washington, DC. The EPA/DC Public Reading Room is open from 8 a.m. to 4:30 p.m., Monday through Friday, excluding legal holidays. The telephone number for the Reading Room is (202) 566-1744, and the telephone number for the RCRA Docket is (202) 566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: 2007 Hazardous Waste Report.

ICR Numbers: EPA ICR No. 0976.13, OMB Control No. 2050-0024.

ICR Status: This ICR is scheduled to expire on October 31, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR renews an ongoing information collection from hazardous waste generators and hazardous waste treatment, storage, or disposal facilities. This collection is done on a two-year cycle as required by Sections 3002 and 3004 of RCRA. The information is collected via a mechanism known as the Hazardous Waste Report for the required reporting year [EPA Form 8700-13 A/B] (also known as the Biennial Report). Both RCRA Sections 3002 and 3004 require EPA to establish standards for recordkeeping and reporting of hazardous waste generation and management. Section 3002 applies to hazardous waste generators and Section 3004 applies to hazardous waste treatment, storage, and disposal facilities. The implementing regulations are found at 40 CFR 262.40(b) and (d); 262.41(a)(1)-(5), (a)(8), and (b); 264.75(a)-(e) and (j); 265.75(a)-(e) and (j); and 270.30(l)(9). This is mandatory reporting by the respondents.

Burden Statement: The reporting burden is estimated to average 16.4 hours per respondent, and includes time for reviewing instructions, gathering data, completing and reviewing the forms, and submitting the report. The record keeping requirement is estimated to average 2.3 hours per response and includes the time for filing and storing the Biennial Report submission for three years.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private Entities and State, Local, or Tribal Governments.

Estimated Number of Respondents: 12,671, including 12,619 survey respondents and 52 state and territorial agencies.

Frequency of Response: Biennially.

Estimated Total Annual Hour Burden: 685,196.

Estimated Total Annual Cost: $20,137,491, including $66,642 annualized capital or O&M costs.

Changes in the Estimates: There is an increase of 519,944 hours in the total estimated burden currently identified in the OMB Inventory of Approved ICR Burdens. This increase in burden has occurred for two reasons. First, there is an increase in the number of respondents, from 9,106 in 2005 to 12,619 projected for 2007. Second, and most importantly, EPA is counting the State Agency burden in the overall burden for this ICR for the first time with this renewal. Historically, EPA calculated State Agency burden with the Federal Agency burden, so the State Agency burden was not reflected in the bottom line burden for the ICR.

Dated: October 2, 2007.
Sara Hisel-McCoy,
Acting Director, Collection Strategies Division.

[FR Doc. E7-20055 Filed 10-10-07; 8:45 am]

BILLING CODE 6560-50-P